DEPARTMENT OF COMMERCE

Foreign-Trade Zones Board

[S-88-2015]

Approval of Expansion of Subzone 22N; Michelin North America, Inc.; Wilmington, Illinois

On June 9, 2015, the Executive Secretary of the Foreign-Trade Zones (FTZ) Board docketed an application submitted by the Illinois International Port District, grantee of FTZ 22, on behalf of Michelin North America, Inc., requesting an expansion of Subzone 22N in Wilmington, Illinois subject to the existing activation limit of FTZ 22 and also requesting the removal of existing Site 1 of the subzone following a transition period.

The application was processed in accordance with the FTZ Act and Regulations, including notice in the Federal Register inviting public comment (80 FR 34140, 6-15-2015). The FTZ staff examiner reviewed the application and determined that it meets the criteria for approval. Pursuant to the authority delegated to the FTZ Board Executive Secretary (15 CFR Sec. 400.36(f)), the application to expand Subzone 22N to include an additional site and to terminate existing Site 1 on January 31, 2016 is approved, subject to the FTZ Act and the Board's regulations, including Section 400.13, and further subject to FTZ 22's 2,000-acre activation limit.

Dated: August 5, 2015.
Andrew McGilvray,
Executive Secretary.

[FR Doc. 2015-19708 Filed 8-10-15; 8:45 am]

BILLING CODE 3510-DS-P